DEPARTMENT OF DEFENSE

Department of the Army, U.S. Army Corps of Engineers

33 CFR Part 209

[COE-2016-0016]

RIN 0710-AA72

Use of U.S. Army Corps of Engineers Reservoir Projects for Domestic, Municipal & Industrial Water Supply

AGENCY: Army Corps of Engineers, DoD.

ACTION: Notice of proposed rulemaking; correction and extension of time for public comments.

SUMMARY: The U.S. Army Corps of Engineers (USACE) is correcting a notice of proposed rulemaking that appeared in the Federal Register of December 16, 2016 and extending the comment period on this rulemaking.

DATES: The comment period for the proposed rule published December 16, 2016 at 81 FR 91556 is extended until May 15, 2017.

ADDRESSES: You may submit comments, identified by docket number and/or Regulatory Information Number (RIN) and title, by any of the following methods:

Federal eRulemaking Portal: http://www.regulations.gov. Follow the instructions for submitting comments.

Email: WSRULE2016@usace.army.mil. Include the docket number, COE-2016-0016, in the subject line of the message.

Mail: U.S. Army Corps of Engineers, ATTN: CECC-L, U.S. Army Corps of Engineers, 441 G St. NW., Washington, DC 20314.

Hand Delivery/Courier: Due to security requirements, we cannot receive comments by hand delivery or courier.

FOR FURTHER INFORMATION CONTACT: Technical information: Jim Fredericks, 503-808-3856. Legal information: Daniel Inkelas, 202-761-0345.

SUPPLEMENTARY INFORMATION: In response to requests from multiple parties, USACE is extending the time for public comments by 90 days. The date listed in the DATES section by which comments must be received is changed from February 14, 2017 to May 15, 2017. Additionally, the document contained an incorrect docket number in the ADDRESSES section. The second docket number referenced in that section, for submission of public comments, is corrected as: COE-2016-0016.

Dated: January 31, 2017.
Theodore A. Brown,
Chief, Policy and Planning Division, Directorate of Civil Works, U.S. Army Corps of Engineers.

[FR Doc. 2017-02415 Filed 2-6-17; 8:45 am]

BILLING CODE 3720-58-P